DEPARTMENT OF STATE

[Public Notice 11129]

Notice of Public Meeting; Request for Comments

SUMMARY: As required by the Federal Advisory Committee Act, the Department of State gives notice of a virtual meeting of the Advisory Committee on International Postal and Delivery Services.

DATES: Comments due by June 9, 2020.

Virtual meeting on June 16, 2020 from 1:00 p.m. to 5:00 p.m., Eastern Time via Webex at the following link: https://statedept.webex.com/statedept/j.php?MTID=meeb8ecb9729bbd2abb0c92b280e1dd6fMeeting number: 906 036 756

Password: PUBLIC159357 (78254215 from phones and video systems).

ADDRESSES: Send comments to Shereece Robinson by any of the following methods:

• Mail: IO/STA, Suite L-409 SA-1, U.S. Department of State, Washington, DC 20522

• Email: RobinsonSA2@state.gov.

• Telephone: (202) 663-2649.

SUPPLEMENTARY INFORMATION:

The agenda of the meeting will include a discussion of the state of planning for the Universal Postal Congress, issues surrounding opening the Universal Postal Union to a broader membership, and remuneration issues. Each individual providing oral input is requested to limit his or her comments to five minutes. Requests to be added to the speakers list, or requesting reasonable accommodation should be made through the above listed methods for comments. Any requests received after June 9, 2020, may be considered and will be granted as reasonably possible.

FOR FURTHER INFORMATION CONTACT: Please contact Ms. Shereece Robinson of the Office of Specialized and Technical Agencies (IO/STA), at (202) 663-2649.

Zachary A, Parker,
Director, Office of Directives Management, Department of State.

[FR Doc. 2020-11678 Filed 5-29-20; 8:45 am]

BILLING CODE 4710-19-P